DEPARTMENT OF LABOR

Employment and Training Administration

[TA-W-55,998]

Meromex USA, Inc.; El Paso, TX; Notice of Termination of Investigation

Pursuant to Section 221 of the Trade Act of 1974, as amended, an investigation was initiated on November 15, 2004 in response to a petition filed by a company official on behalf of workers of Meromex USA, Inc., El Paso, Texas.

The petition regarding the investigation has been deemed invalid. In order to establish a valid worker group, there must be at least three full-time workers employed at some point during the period under investigation. Workers of this investigation did not meet this threshold level of employment. Consequently, the investigation has been terminated.

Signed at Washington, DC, this 6th day of December, 2004.
Elliott S. Kushner,
Certifying Officer, Division of Trade Adjustment Assistance.

[FR Doc. E5-247 Filed 1-21-05; 8:45 am]

BILLING CODE 4510-30-P